DEPARTMENT OF TRANSPORTATION

Federal Aviation Administration

14 CFR Part 39

[Docket No. FAA-2011-0199; Directorate Identifier 2011-CE-005-AD; Amendment 39-16631; AD 2011-06-06]

RIN 2120-AA64

Airworthiness Directives; Eclipse Aerospace, Inc. Model EA500 Airplanes Equipped With a Pratt and Whitney Canada, Corp. (PWC) PW610F-A Engine

AGENCY: Federal Aviation Administration (FAA), DOT.

ACTION: Final rule; request for comments.

SUMMARY: We are superseding an existing airworthiness directive (AD) for the products listed above. That AD currently requires you to incorporate operating limitations of maximum operating altitude of 37,000 feet into Section 2, Limitations, of the airplane flight manual (AFM). This AD requires you to incorporate operating limitations of maximum operating altitude of 30,000 feet into Section 2, Limitations, of the AFM. This AD was prompted by several incidents of engine surge. We are issuing this AD to prevent hard carbon buildup on the static vane, which could result in engine surges. Engine surges may result in a necessary reduction in thrust and decreased power for the affected engine. In some cases, this could result in flight and landing under single-engine conditions. It is also possible this could affect both engines at the same time, requiring dual-engine shutdown.

DATES: This AD is effective March 21, 2011.

We must receive any comments on this AD by April 25, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Eric Kinney, Aerospace Engineer, Ft. Worth Aircraft Certification Office, FAA, 2601 Meacham Blvd., Fort Worth, Texas 76137; telephone: (817) 222-5459; fax: (817) 222-5960; e-mail: eric.kinney@faa.gov.

SUPPLEMENTARY INFORMATION:

Discussion

On November 17, 2008, we issued AD 2008-24-07, amendment 39-15747 (73 FR 70866, November 24, 2008), for certain Eclipse Aviation Corporation (Eclipse) Model EA500 airplanes equipped with a Pratt and Whitney Canada, Corp. (PWC) PW610F-A engine. That AD requires you to incorporate operating limitations into Section 2, Limitations, of the airplane flight manual (AFM). That AD resulted from several incidents of engine surge. We issued that AD to prevent hard carbon buildup on the static vane, which could result in engine surges. Engine surges may result in a necessary reduction in thrust and decreased power for the affected engine. In some cases, this could result in flight and landing under single-engine conditions.

Actions Since AD was Issued

Since we issued AD 2008-24-07, the unsafe condition of engine surges due to hard carbon build up blocking the static vanes has continued to occur at 37,000 feet altitude and lower.

Six known events have occurred, five of which were at or below 37,000 feet altitude and four of which were in a two-week period.

Operating effects may include a reduction of available thrust or an in-flight shutdown of the affected engine. This could occur in flight and require landing under single-engine conditions. It is also possible that this could affect both engines at the same time, requiring dual-engine shutdown.

FAA's Determination

We are issuing this AD because we evaluated all the relevant information and determined the unsafe condition described previously is likely to exist or develop in other products of the same type design.

AD Requirements

This AD requires you to incorporate operating limitations of maximum operating altitude of 30,000 feet into Section 2, Limitations, of the AFM.

Interim Action

We consider this AD interim action. The PWC PW610F-A engine is certificated in Canada and is certificated as a foreign type-validated engine under FAA TCDS E00074EN. The FAA understands that Transport Canada (the airworthiness authority for Canada) and PWC are considering potential actions to address the engine aspects of this condition. In the meantime, the FAA is issuing this AD on the Eclipse Model EA500 to address the immediate unsafe condition and to mandate the altitude limitation.

FAA's Justification and Determination of the Effective Date

An unsafe condition exists that requires the immediate adoption of this AD. The FAA has found that the risk to the flying public justifies waiving notice and comment prior to adoption of this rule because a reduction of available thrust or an in-flight shutdown of the affected engine might occur. This could occur in flight and require landing under single-engine conditions. It is also possible that this could affect both engines at the same time, requiring dual-engine shutdown. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2011-0199 and directorate identifier 2011-CE-005-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 259 airplanes of U.S. registry.

We estimate the following costs to comply with this AD:

Estimated costs
Action | Labor cost | Parts cost | Cost per product | Cost on U.S. operators
Incorporate operating limitations of maximum operating altitude of 30,000 feet into Section 2, Limitations, of the AFM | 1 work-hour × $85 per hour = $85 | Not Applicable | $85 | $22,015

The cost presented above is a cost estimate only. Since a person holding at least a private pilot certificate as authorized by section 43.7 of the Federal Aviation Regulations (14 CFR 43.7) may insert the AFM change, the cost burden of this AD on the individual owner/operator is minimal or nothing.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-24-07, Amendment 39-15747 (73 FR 70866, November 24, 2008) and adding the following new AD:

2011-06-06 Eclipse Aerospace, Inc. Model EA500 Airplanes Equipped With a Pratt and Whitney Canada, Corp. (PWC) PW610F-A Engine: Amendment 39-16631; Docket No. FAA-2011-0199; Directorate Identifier 2011-CE-005-AD.

Effective Date

(a) This AD is effective March 21, 2011.

Affected ADs

(b) This AD supersedes AD 2008-24-07, Amendment 39-15747.

Applicability

(c) This AD applies to Model EA500 airplanes, all serial numbers, that are:

(1) equipped with a Pratt and Whitney Canada, Corp. PW610F-A engine; and

(2) certificated in any category.

Subject

(d) Joint Aircraft System Component (JASC)/Air Transport Association (ATA) of America Code 72, Engine.

Unsafe Condition

(e) This AD was prompted by several incidents of engine surge. We are issuing this AD to prevent hard carbon buildup on the static vane, which could result in engine surges. Engine surges may result in a necessary reduction in thrust and decreased power for the affected engine. In some cases, this could result in flight and landing under single-engine conditions. It is also possible this could affect both engines at the same time, requiring dual-engine shutdown.

Compliance

(f) Comply with this AD within the compliance times specified, unless already done.

Actions

(g) Before further flight, incorporate the following language into Section 2, Limitations, of your airplane flight manual (AFM): “Per AD 2011-06-06, LIMIT THE MAXIMUM OPERATING ALTITUDE TO 30,000 FEET (9144M) PRESSURE ALTITUDE.”

(1) A person holding at least a private pilot certificate as authorized by section 43.7 of the Federal Aviation Regulations (14 CFR 43.7) may insert the operating limitations into Section 2, Limitations, of the AFM. Make an entry into the aircraft logbook showing compliance with this portion of the AD in accordance with section 43.9 of the Federal Aviation Regulations (14 CFR 43.9).

(2) You may incorporate paragraph (g) of this AD into Section 2, Limitations, of your AFM to comply with this AD.

Alternative Methods of Compliance (AMOCs)

(h)(1) The Manager, Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(i) For more information about this AD, contact Eric Kinney, Aerospace Engineer, Ft. Worth Aircraft Certification Office, FAA, 2601 Meacham Blvd., Fort Worth, Texas 76137; telephone: (817) 222-5459; fax: (817) 222-5960; e-mail: eric.kinney@faa.gov.

Issued in Kansas City, Missouri, on March 3, 2011.
Earl Lawrence,
Manager, Small Airplane Directorate, Aircraft Certification Service.

[FR Doc. 2011-5296 Filed 3-9-11; 8:45 am]

BILLING CODE 4910-13-P